DEPARTMENT OF ENERGY

Federal Energy Regulatory Commission

[Docket Nos. ER02-1656-000 ER02-1656-019]

California Independent System Operator Corporation; Notice Announcing Call-In Number for November 3, 2004, Technical Conference

November 2, 2004.

By this notice, we are informing interested participants that a listen-only telephone line will be provided for participants in remote locations to call-in and listen to discussions at the November 3, 2004, technical conference.¹ The listen-only telephone line will be of limited availability.

¹ See Notice of Staff Technical Conference, Docket Nos. ER02-1656-000 and ER02-1656-019 (October 26, 2004).

The following is the information needed for facilitation of the listen-only conference call.

Date: November 3, 2004.

Time: 9 a.m.-5 p.m., P.s.t.

Toll Number: (203) 566-6414.

Passcode: 652465.

For more information about the conference, please contact: Olga Kolotushkina at (202) 502-6024 or olga.kolotushkina@ferc.gov.

Linda Mitry,
Deputy Secretary.

[FR Doc. E4-3048 Filed 11-5-04; 8:45 am]

BILLING CODE 6717-01-P